DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Alton & Southern Railway Company

[Waiver Petition Docket Number FRA-2005-23458]

The Alton & Southern Railway Company (ALS) seeks a waiver of compliance from certain provisions of 49 CFR part 232, Brake System Safety Standards for Freight and Other Non-Passenger Trains and Equipment. Specifically, § 232.205, Class I brake test—initial terminal inspection for the movement of the interchange cut from the Norfolk Southern connection at 42nd Street in East St. Louis, Illinois to the ALS Gateway Yard in East St. Louis, Illinois, a distance of no more than 1¼ mile. This move is made entirely within yard limits and does not cross any public road crossings. The interchange cut in question is a complete train that has had a Class I brake test, but has had the locomotive power removed and is “off-air” for more than four hours.

ALS states that the reason for this request is due to the conditions of the crime and violent acts that have happened at this location and the surrounding neighborhood in the past two years. ALS has had two employees accosted on a locomotive and one employee assaulted while performing work at this interchange. One employee was assaulted and killed from a gun shot in this same area. ALS has a policy to only pull cars from this area during daylight hours.

Due to the reasons stated above, ALS would like to be able to perform a Class III brake test—trainline continuity inspection, in lieu of performing a Class I brake test for this short move.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-23458) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on June 19, 2006.
Grady C. Cothen, Jr.,
Deputy Associate Administrator for Safety Standards and Program Development.

[FR Doc. E6-9971 Filed 6-22-06; 8:45 am]

BILLING CODE 4910-06-P